ENVIRONMENTAL PROTECTION AGENCY

40 CFR Part 52

[EPA-R01-OAR-2009-0436; A-1-FRL-9972-87-Region 1]

Air Plan Approval; Rhode Island; Enhanced Motor Vehicle Inspection and Maintenance Program; Withdrawal of Direct Final Rule

AGENCY: Environmental Protection Agency (EPA).

ACTION: Withdrawal of direct final rule.

SUMMARY: Due to the receipt of an adverse comment, the Environmental Protection Agency (EPA) is withdrawing the November 14, 2017 direct final rule approving a State Implementation Plan (SIP) revision submitted by the State of Rhode Island. Rhode Island's SIP revision updates the enhanced motor vehicle inspection and maintenance (I/M) program in Rhode Island. This action is being taken in accordance with the Clean Air Act.

DATES: The direct final rule was published on November 14, 2017 (82 FR 52655), and is withdrawn effective January 9, 2018.

FOR FURTHER INFORMATION CONTACT: Ariel Garcia, Air Quality Planning Unit, U.S. Environmental Protection Agency, New England Regional Office, 5 Post Office Square—Suite 100, (Mail code OEP05-2), Boston, MA 02109-3912, telephone (617) 918-1660, facsimile (617) 918-0660, email garcia.ariel@epa.gov.

SUPPLEMENTARY INFORMATION: In the direct final rule, EPA stated that if adverse comments were submitted by December 14, 2017, the rule would be withdrawn and not take effect. EPA received an adverse comment prior to the close of the comment period and, therefore, is withdrawing the direct final rule. EPA also published a proposed rule on November 14, 2017 (82 FR 52682), stating that written comments must be received on or before December 14, 2017. However, EPA will institute an extended comment period for this action by publishing a notice of data availability.

List of Subjects in 40 CFR Part 52

Environmental protection, Air pollution control, Carbon monoxide, Incorporation by reference, Intergovernmental relations, Lead, Nitrogen dioxide, Ozone, Particulate matter, Regional haze, Reporting and recordkeeping requirements, Sulfur oxides, Volatile organic compounds.

Dated: December 20, 2017.
Ken Moraff,
Acting Regional Administrator, EPA New England.

PART 52—APPROVAL AND PROMULGATION OF IMPLEMENTATION PLANS

Accordingly, the amendments to 40 CFR 52.2070 published in the Federal Register on November 14, 2017 (82 FR 52655), on pages 52663-52664 are withdrawn effective January 9, 2018.

[FR Doc. 2018-00134 Filed 1-8-18; 8:45 am]

BILLING CODE 6560-50-P